DEPARTMENT OF COMMERCE

National Oceanic and Atmospheric Administration

[RTID 0648-XD516]

Marine Mammals and Endangered Species

AGENCY: National Marine Fisheries Service (NMFS), National Oceanic and Atmospheric Administration (NOAA), Commerce.

ACTION: Notice; issuance of permits and permit amendments.

SUMMARY: Notice is hereby given that permits and permit amendments have been issued to the following entities under the Marine Mammal Protection Act (MMPA) and the Endangered Species Act (ESA), as applicable.

ADDRESSES: The permits and related documents are available for review upon written request via email to NMFS.Pr1Comments@noaa.gov.

FOR FURTHER INFORMATION CONTACT: Shasta McClenahan, Ph.D., (Permit No. 27155), Amy Hapeman (Permit No. 22156-05), and Jennifer Skidmore (Permit No. 27459); at (301) 427-8401.

SUPPLEMENTARY INFORMATION: Notices were published in the Federal Register on the dates listed below that requests for a permit or permit amendment had been submitted by the below-named applicants. To locate the Federal Register notice that announced our receipt of the application and a complete description of the activities, go to https://www.federalregister.gov and search on the permit number provided in Table 1 below.

Table 1—Issued Permits and Permit Amendments
Permit No. | RTID | Applicant | Previous Federal Register notice | Issuance Date
22156-05 | 0648-XC660 | Douglas Nowacek, Ph.D., Duke University Marine Laboratory, 135 Duke Marine Lab Road, Beaufort, NC 28516 | 88 FR 2070, January 12, 2023 | October 16, 2023.
27155 | 0648-XD227 | Jamie Lloyd-Smith, Ph.D., University of California, Los Angeles, 610 Charles East Young Drive South, Los Angeles, CA 90095 | 88 FR 55017, August 14, 2023 | October 11, 2023.
27459 | 0648-XD322 | Robin Trayler, Ph.D., University of California, Merced, 5200 North Lake Road, Science and Engineering 1, 283, Merced, CA 95343 | 88 FR 60650, September 5, 2023 | October 23, 2023.

In compliance with the National Environmental Policy Act (NEPA) of 1969 (42 U.S.C. 4321 et seq.), a final determination has been made that the activities proposed for Permit Nos. 27155 and 27459 are categorically excluded from the requirement to prepare an environmental assessment (EA) or environmental impact statement (EIS).

For Permit No. 22156-05, an EA was prepared analyzing the effects of the permitted activities on the human environment in compliance with NEPA. Based on the analyses in the EA, NMFS determined that issuance of the permit amendment would not significantly impact the quality of the human environment and that preparation of an EIS was not required. That determination is documented in a Finding of No Significant Impact, signed on October 16, 2023.

As required by the ESA, as applicable, issuance of these permit was based on a finding that such permits: (1) were applied for in good faith; (2) will not operate to the disadvantage of such endangered species; and (3) are consistent with the purposes and policies set forth in Section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: November 9, 2023.
Julia M. Harrison,
Chief, Permits and Conservation Division, Office of Protected Resources, National Marine Fisheries Service.

[FR Doc. 2023-25171 Filed 11-14-23; 8:45 am]

BILLING CODE 3510-22-P